DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10 (a)(1)(A) of the Endangered Species Act of 1973, as amended (16 USC 1531 et seq.).

Permit No. TE-022517.

Applicant: Andrea Beach, Ramona, California.

The applicant requests a permit to take (survey by pursuit) the Quino checkerspot butterfly (Euphydryas editha quino) in conjunction with presence or absence surveys throughout its range for the purpose of enhancing its survival.

Permit No. TE-008031.

Applicant: David Flietner, Riverside, California.

The applicant requests an amendment to take (survey by pursuit) the Delhi Sands Flower-loving fly (Raphiomidas terminatus abdominalis) in conjunction with presence or absence surveys throughout its range for the purpose of enhancing its survival.

Permit No. TE-018909.

Applicant: Kelly Rio, Brea, California.

The applicant requests an amendment to take (survey by pursuit) the El Segundo blue butterfly (Euphilotes battoides allyni) in conjunction with presence or absence surveys throughout its range for the purpose of enhancing its survival.

Permit No. TE-838743.

Applicant: David Faulkner, San Diego, California.

The applicant requests an amendment to take (survey by pursuit) the Delhi Sands Flower-loving fly (Raphiomidas terminatus abdominalis) in conjunction with presence or absence surveys throughout its range for the purpose of enhancing its survival.

Permit No. TE-817397.

Applicant: John Storrer, Santa Barbara, California.

The applicant requests an amendment to take (capture and handle) the California tiger salamander (Ambystoma californiense) in conjunction with presence or absence surveys throughout its range in Santa Barbara County, California, for the purpose of enhancing its survival.

Permit No. TE-022558.

Applicant: Megan Sue Enright, Encinitas, California.

The applicant requests a permit to take (harass by survey, collect, and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species range in California for the purpose of enhancing their survival.

Permit No. TE-835549.

Applicant: Charles H. Black, San Diego, California.

The applicant requests a permit amendment to take (collect cysts; sacrifice cultured individuals) the San Diego fairy shrimp (Brachinecta sandiegonensis) and the Riverside fairy shrimp (Streptocephalus woottoni) in conjunction with surveys throughout each species range for the purpose of enhancing their survival.

Permit No. TE-022651.

Applicant: Michael A. Bias, Roseville, California.

The applicant requests a permit to take (capture, mark) the salt marsh harvest mouse (Reithrodontomys raviventris) in conjunction with population studies and monitoring throughout the species range in California for the purpose of enhancing its survival.

Permit No. TE-022649.

Applicant: Joseph E. Messin, Moreno Valley, California.

The applicant requests a permit to take (capture, mark) the Stephens' kangaroo rat (Dipodomys stephensi) in conjunction with population studies and monitoring in Riverside County, California for the purpose of enhancing its survival.

Permit No. TE-820306.

Applicant: KEA Environmental, Inc. San Diego, California.

The applicant requests a permit amendment to take (harass by survey, collect, and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species range in California for the purpose of enhancing their survival.

Permit No. TE-702631.

Applicant: Assistant Regional Director-Ecological Services, Region 1, U.S. Fish and Wildlife Service, Portland, Oregon.

The applicant requests a permit amendment to remove and reduce to possession specimens of the following plant species: Sidalcea keckii (Keck's checker-mallow) and Thlaspi californicum (Kneeland Prairie penny-cress). Authorization is also requested to take the following wildlife species: the riparian brush rabbit (Sylvilagus bachmani riparius) and the riparian or San Joaquin Valley woodrat (Neotoma fuscipes riparia). Collection and take activities will be conducted throughout each species range in conjunction with recovery efforts for the purpose of enhancing their propagation and survival.

Permit No. TE-023242.

Applicant: Geoffrey T. Gray, Clovis, California.

The applicant requests a permit to take (harass by survey, collect, and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species range in California for the purpose of enhancing their survival.

Permit No. TE-023240.

Applicant: William M. Stolp, Fresno, California.

The applicant requests a permit to take (harass by survey, collect, and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species range in California for the purpose of enhancing their survival.

Permit No. TE-776608.

Applicant: Monk & Associates, Walnut Creek, California.

The applicant requests a permit to take (harass by survey, collect, and sacrifice) the San Diego fairy shrimp (Brachinecta sandiegonensis) and the Riverside fairy shrimp (Streptocephalus woottoni) in conjunction with surveys throughout each species range in California for the purpose of enhancing their survival.

Permit No. TE-023496.

Applicant: Endangered Species Recovery Program, Fresno, California.

The applicant requests a permit to take (capture, mark, hold in captivity) the blunt-nosed leopard lizard (Gambelia silus); take (capture, mark, collect biological samples) the Fresno kangaroo rat (Dipodomys nitratoides exilis), giant kangaroo rat (Dipodomys ingens), and the Tipton kangaroo rat (Dipodomys nitratoides nitratoides); take (capture, mark, radio-collar, collect blood and tissue samples) the San Joaquin kit fox (Vulpes macrotis mutica); take (harass by survey, collect, and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni); and take (capture, mark, radio-tag, translocate, collect biological samples, captively propagate) the riparian brush rabbit (Sylvilagus bachmani riparius) and the riparian or San Joaquin Valley woodrat (Neotoma fuscipes riparia) in conjunction with surveys, population monitoring, ecological research, and population augmentation throughout each species range for the purpose of enhancing their survival. All activities for the blunt-nosed leopard lizard, Fresno kangaroo rat, giant kangaroo rat, Tipton kangaroo rat, and the San Joaquin kit fox were previously authorized under subpermit Willdf-15.

Permit No. TE-023467.

Applicant: David Mayer, La Jolla, California.

The applicant request a permit to take (harass by survey, collect, and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni); take (survey by pursuit) the Quino checkerspot butterfly (Euphydryas edithra quino), and take (harass by survey) the southwestern willow flycatcher (Empidonax traillii extimus) in conjunction with surveys and population monitoring throughout each species range for the purpose of enhancing their survival.

Permit No. TE-023492.

Applicant: Alan Wilkins, Middleton, Massachusetts.

The applicant requests a permit to purchase, in interstate commerce, one female and four male captive bred Hawaiian (=nene) geese (Nesochen [=Branta] sandvicensis) for the purpose of enhancing the species propagation and survival.

Permit No. TE-014497.

Applicant: Haleakala National Park, Makawao, Hawaii.

The applicant requests a permit to remove and reduce to possession the seeds, inflorescence, and leaves of Clermontia samuelii (oha wai), Cyanea copelandii ssp. haleakalaensis (haha), Cyanea glabra (haha), and Cyanea hamatiflora ssp. hamatiflora (haha) in conjunction with viability and propagation research, and herbarium and taxonomic identification, at Haleakala National Park, Hawaii for the purpose of enhancing their survival.

DATES: Written comments on these permit applications must be received on or by April 5, 2000.

ADDRESSES: Written data or comments should be submitted to the Chief—Endangered Species, Ecological Services, Fish and Wildlife Service, 911 N.E. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: February 28, 2000.
Don Weathers
Acting Regional Director, Region 1, Portland, Oregon.

[FR Doc. 00-5295 Filed 3-3-00; 8:45 am]

BILLING CODE 4310-55-P